DEPARTMENT OF ENERGY

Federal Energy Regulatory Commission

[Project Nos. 14453-001; 14791-000]

Prineville Energy Storage LLC, Ochoco Irrigation District; Notice of Competing Preliminary Permit Applications Accepted for Filing and Soliciting Comments, Motions To Intervene, and Competing Applications

On July 1, 2016, Prineville Energy Storage LLC (Prineville) and Ochoco Irrigation District (Ochoco) filed preliminary permit applications, pursuant to section 4(f) of the Federal Power Act, proposing to study the feasibility of a hydropower project at the U.S. Army Corps of Engineers' (Corps) Prineville Reservoir and Arthur Bowman Dam, located on the Crooked River near the City of Prineville in Crook County, Oregon. The sole purpose of a preliminary permit, if issued, is to grant the permit holder priority to file a license application during the permit term. A preliminary permit does not authorize the permit holder to perform any land-disturbing activities or otherwise enter upon lands or waters owned by others without the owners' express permission.

Prineville's project would be a pumped storage project that uses the Corps' Prineville Reservoir as the lower reservoir. The project would consist of the following new facilities: (1) A 40-foot-high, 7,700-foot-long concrete-faced rockfill embankment creating a 64-acre upper reservoir; (2) a 15-foot-diameter, 1,400-foot-long low pressure tunnel; (3) two 11-foot-diameter, 1,880-foot-long high pressure conduit; (4) a powerhouse with two 100-megawatt (MW) reversible pump turbines located 365 feet west of the Prineville Reservoir; (5) a tailrace; and (6) a 16-mile-long, 115-kilovolt (kV) transmission line interconnecting with the Ponderosa substation. The Prineville Project would have an average annual generation of 525,600 megawatt-hours (MWh).

Applicants Contact: Mr. Matthew Shapiro, CEO, Prineville Energy Storage, LLC, 1210 W. Franklin Street, Ste. 2, Boise, ID 83702. (208) 246-9925.

Ochoco's Bowman Dam Project would be a conventional project that uses the Corps' existing intake structure at the Bowman Dam and Prineville Reservoir, and the following new facilities: (1) A 10-foot-diameter, 310-foot-long steel pipe inserted into the Corps' existing intake tunnel; (2) a valve chamber; (3) a 9-foot-diameter, 108.44-foot-long steel penstock; (4) a powerhouse with one 3-MW and one 1-MW Francis turbine/generator units located on the bank next to the Corps' existing spillway; (5) a tailrace; and (6) a 15-mile-long, 24.5 kV transmission line interconnecting to the Central Electric Cooperative facilities. The Bowman Dam Project would have an average annual generation of 17.6 MWh.

Applicant Contact: Mr. Russell Rhoden, Manager, Ochoco Irrigation District, 1001 NW. Deer Street, Prineville, OR 97754. (541) 447-6449.

FERC Contact: Kim Nguyen, kim.nguyen@ferc.gov, (202) 502-6105.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14453-001 and P-14791-000.

More information about this project, including a copy of the application, can be viewed or printed on the “eLibrary” link of the Commission's Web site at http://www.ferc.gov/docs-filing/elibrary.asp. Enter the docket number (P-14453-001, or P-14791-000) in the docket number field to access the document. For assistance, contact FERC Online Support.

Dated: September 2, 2016.
Kimberly D. Bose,
Secretary.

[FR Doc. 2016-21747 Filed 9-8-16; 8:45 am]

BILLING CODE 6717-01-P